DEPARTMENT OF HEALTH AND HUMAN SERVICES

Centers for Disease Control and Prevention

Proposed Criteria for Selecting New Environmental Chemicals or Categories of Chemicals for Analytic Development and for Inclusion in Future Releases of the National Report on Human Exposure to Environmental Chemicals

AGENCY: Centers for Disease Control and Prevention (CDC), Health and Human Services (HHS).

ACTION: Notice.

SUMMARY: Requests public comment on CDC's proposed criteria for selecting new environmental chemicals or categories of chemicals for analytical method development and for selecting additional environmental chemicals or categories of chemicals to appear in future releases of the “National Report on Human Exposure to Environmental Chemicals” (the “Report”). The proposed criteria for choosing new environmental chemicals or categories of chemicals for analytic development and for including chemicals or categories of chemicals in future editions of the “Report” are as follows: (1) Independent scientific data which suggest that the potential for exposure of the U.S. population to a particular chemical is changing or persisting; (2) seriousness of health effects known or suspected to result from exposure to the chemical (for example, cancer and birth defects); (3) the proportion of the U.S. population likely to be exposed to levels of chemicals of known or potential health significance; (4) the need to assess the efficacy of public health actions to reduce exposure to a chemical in the U.S. population or a large component of the U.S. population (for example, in children); (5) the existence of an analytic method that can measure the chemical or its metabolite in blood or urine with adequate accuracy, precision, sensitivity, specificity, and speed; and (6) the incremental analytical cost (in dollars and personnel) to perform the analyses (preference is given to chemicals that can be added readily to existing analytical methods). After reviewing and incorporating public comments from this announcement, CDC will publish the criteria in their final form in the Federal Register along with a general notice requesting public nominations of new chemicals that satisfy the new criteria. The criteria will be used by experts to prioritize the nominated chemicals for analytical method development and for eventual inclusion in the “Report.”

DATES: Submit comments on or before April 19, 2002.

ADDRESSES: Address all comments concerning this notice to Dorothy Sussman, Centers for Disease Control and Prevention, National Center for Environmental Health, Division of Laboratory Sciences, Mail Stop F-20, 4770 Buford Highway, Atlanta, Georgia 30341.

FOR FURTHER INFORMATION CONTACT: Technical Information: Dr. Richard Wang, Telephone 770-488-7950

SUPPLEMENTARY INFORMATION: The “Report” provides an ongoing assessment of the exposure of the U.S. population to environmental chemicals using biomonitoring. (The “Report” is published by CDC under the authoritities 42 U.S.C. 241 and 42 U.S.C. 242k). For the “Report,” an environmental chemical means a chemical compound or chemical element present in air, water, soil, dust, food, or other environmental media. Biomonitoring is the assessment of human exposure to chemicals by measuring the chemicals or their breakdown products in human specimens, such as blood or urine. The “Report” provides this exposure information about participants in an ongoing national survey known as the National Health and Nutrition Examination Survey (NHANES). This survey is conducted by CDC's National Center for Health Statistics; measurements are conducted by CDC's National Center for Environmental Health. The first “Report,” published in March 2001, gave information about levels of 27 chemicals found in the U.S. population. The “Report” can be obtained at the following: www.cdc.gov/nceh/dls/report/'; email ncehdls@cdc.gov or Telephone 1-866-670-6052. In addition to those chemicals in the first “Report,” the following categories or classes of environmental chemicals will be in the second “Report:” polycyclic aromatic hydrocarbons (PAHs), co-planar and non-planar polychlorinated biphenyls (PCBs), persistent organochlorine pesticides, carbamate pesticides, dioxins, and furans.

Future editions of the “Report” will provide detailed assessments of exposure levels among different population groups defined by sex, race/ ethnicity, age, urban /rural residence, education level, income, and other characteristics. Over time, CDC will be able to track trends in exposure levels. Future editions may also include additional exposure information for special-exposure populations (e.g., children) from studies of people through localized or point sources and from studies of adverse health effects resulting from exposure to varying levels of environmental chemicals.

Dated: March 12, 2002.
Joseph R. Carter,
Associate Director for Management and Operations, Centers for Disease Control and Prevention (CDC).

[FR Doc. 02-6624 Filed 3-19-02; 8:45 am]

BILLING CODE 4163-18-P